DEPARTMENT OF COMMERCE

International Trade Administration

[A-570-904]

Certain Activated Carbon From the People's Republic of China: Final Results of Antidumping Duty Administrative Review, Final Determination of No Shipments, and Final Rescission of Administrative Review, in Part; 2018-2019

AGENCY: Enforcement and Compliance, International Trade Administration, Department of Commerce.

SUMMARY: The Department of Commerce (Commerce) determines that Carbon Activated Tianjin Co., Ltd. (Carbon Activated) and Datong Juqiang Activated Carbon Co., Ltd. (Datong Juqiang) sold certain activated carbon from the People's Republic of China (China) at less than normal value during the period of review (POR) April 1, 2018, through March 31, 2019.

DATES: Applicable February 22, 2021.

FOR FURTHER INFORMATION CONTACT: Jinny Ahn or George Ayache, AD/CVD Operations, Office VIII, Enforcement and Compliance, International Trade Administration, Department of Commerce, 1401 Constitution Avenue NW, Washington, DC 20230; telephone: (202) 482-0339 or (202) 482-2623, respectively.

SUPPLEMENTARY INFORMATION:

Background

Commerce published the Preliminary Results ¹ on April 30, 2020. For events subsequent to the Preliminary Results, see the Issues and Decision Memorandum.² On April 24 and July 21, 2020, Commerce tolled all deadlines in administrative reviews by 50 and an additional 60 days, respectively.³ On November 25, 2020, Commerce extended the deadline of the final results this administrative review by 58 days.⁴ The deadline for the final results of this review is now February 12, 2021.

¹ See Certain Activated Carbon from the People's Republic of China: Preliminary Results of Antidumping Duty Administrative Review, Intent to Rescind the Review, in Part, and Preliminary Determination of No Shipments; 2018-2019, 85 FR 23947 (April 30, 2020) (Preliminary Results), and accompanying Preliminary Decision Memorandum (PDM).

² See Memorandum, “Certain Activated Carbon from the People's Republic of China: Issues and Decision Memorandum for the Final Results of the Twelfth Antidumping Duty Administrative Review,” dated concurrently with, and hereby adopted by, this notice (Issues and Decision Memorandum).

³ See Memorandum, “Tolling of Deadlines for Antidumping and Countervailing Duty Administrative Reviews in Response to Operational Adjustments Due to COVID-19,” dated April 24, 2020; see also Memorandum, “Tolling of Deadlines for Antidumping and Countervailing Duty Administrative Reviews,” dated July 21, 2020.

⁴ See Memorandum, “Certain Activated Carbon from the People's Republic of China: Extension of Deadline for Final Results of Twelfth Antidumping Duty Administrative Review,” dated November 25, 2020.

Scope of the Order ⁵

⁵ See Notice of Antidumping Duty Order: Certain Activated Carbon from the People's Republic of China, 72 FR 20988 (April 27, 2007) (Order). For a complete description of the scope of the Order, see the Issues and Decision Memorandum.

The merchandise subject to the Order is certain activated carbon. The products are currently classifiable under the Harmonized Tariff Schedule of the United States (HTSUS) subheading 3802.1000. Although the HTSUS subheading is provided for convenience and customs purposes, the written description of the scope of the Order remains dispositive.

Analysis of Comments Received

In the Issues and Decision Memorandum, we addressed all issues raised in the interested parties' case and rebuttal briefs. In Appendix I to this notice, we provided a list of the issues raised by the parties. The Issues and Decision Memorandum is a public document and is on file electronically via Enforcement and Compliance's Antidumping and Countervailing Duty Centralized Electronic Service System (ACCESS). ACCESS is available to registered users at https://access.trade.gov. In addition, a complete version of the Issues and Decision Memorandum is available to parties at http://enforcement.trade.gov/frn/index.html. The signed and electronic versions of the Issues and Decision Memorandum are identical in content.

Changes Since the Preliminary Results

Based on our review of the record and comments received from interested parties regarding our Preliminary Results, we made certain revisions to the margin calculations for Carbon Activated and Datong Juqiang,⁶ and consequently, to the rate assigned to the non-examined, separate rate respondents.⁷

⁶ See Memoranda, “Antidumping Duty Administrative Review of Certain Activated Carbon from the People's Republic of China: Final Results Calculation Memorandum for Carbon Activated” (Carbon Activated's Final Calculation Memorandum); and “Antidumping Duty Administrative Review of Certain Activated Carbon the People's Republic of China: Final Results Calculation Memorandum for Datong Juqiang Activated Carbon Co., Ltd.” (Datong Juqiang's Final Calculation Memorandum), both dated concurrently with this memorandum; see also Memorandum, “Twelfth Administrative Review of Certain Activated Carbon from the People's Republic of China: Surrogate Values for the Final Results,” dated concurrently with this memorandum.

⁷ For additional details on the changes made since the Preliminary Results, see the Issues and Decision Memorandum.

Rescission of Administrative Review, in Part

As noted in the Preliminary Results, in the Initiation Notice,⁸ we included Jacobi Carbons, Inc. among the companies for which a review was requested. The record of this review demonstrates that Jacobi Carbons, Inc. is a U.S. importer of Jacobi.⁹,¹⁰ Therefore, for these final results, we are rescinding the review with respect to Jacobi Carbons, Inc.

⁸ See Initiation of Antidumping and Countervailing Duty Administrative Reviews, 84 FR 27587 (June 13, 2019) (Initiation Notice).

⁹ Jacobi Carbons AB and its affiliates, Tianjin Jacobi International Trading Co. Ltd. and Jacobi Carbons Industry (Tianjin) Co. Ltd. (collectively, Jacobi).

¹⁰ See Jacobi's Letter, “Jacobi's Separate Rate Certification Supplemental Questionnaire Response,” dated March 10, 2020 at Exhibit 1.

Final Determination of No Shipments

In the Preliminary Results, we preliminarily determined that Ningxia Guanghua Cherishmet Activated Carbon Co., Ltd.; Jilin Bright Future Chemicals Co., Ltd.; Shanxi Dapu International Trade Co., Ltd.; and Tianjin Channel Filters Co., Ltd. had no shipments of subject merchandise to the United States during the POR.¹¹ We received no arguments identifying information that contradicts this determination. Therefore, we continue to find that these companies had no shipments of subject merchandise during the POR and will issue appropriate liquidation instructions that are consistent with our “automatic assessment” clarification for these final results.¹²

¹¹ See Preliminary Results, 85 FR at 23947.

¹² See Non-Market Economy Antidumping Proceedings: Assessment of Antidumping Duties, 76 FR 65694 (October 24, 2011) (Assessment Practice Refinement).

Separate Rate Respondents

In our Preliminary Results, we determined that Carbon Activated, Datong Juqiang, and nine other companies demonstrated their eligibility for a separate rate.¹³ We received no comments or arguments since the issuance of the Preliminary Results that provide a basis for reconsideration of these determinations. Therefore, for these final results, we continue to find that the eleven companies listed in the table in the “Final Results of the Review” section of this notice are eligible for a separate rate.

¹³ See Preliminary Results PDM at 5-8.

Rate for Non-Examined Separate Rate Respondents

In the Preliminary Results,¹⁴ and consistent with Commerce's practice,¹⁵ we assigned the non-examined, separate rate companies a rate equal to the weighted average of the calculated weighted-average dumping margins for the mandatory respondents that are not zero, de minimis (i.e., less than 0.5 percent), or based entirely on facts available, weighted by the total U.S. sales quantities from the public version of the submissions from the mandatory respondents.¹⁶ No parties commented on the methodology for calculating this separate rate. For the final results, we continue to apply this methodology, as it is consistent with the intent of, and our use of, section 735(c)(5)(A) of the Act.¹⁷

¹⁴ Id. at 9-10.

¹⁵ See, e.g., Certain Frozen Warmwater Shrimp from the Socialist Republic of Vietnam: Final Results and Final Partial Rescission of Antidumping Duty Administrative Review, 76 FR 56158, 56160 (September 12, 2011) (Vietnam Shrimp).

¹⁶ See Memorandum, “Certain Activated Carbon from the People's Republic of China: Calculation of Margin for Respondents Not Selected for Individual Examination,” dated concurrently with this notice.

¹⁷ See Vietnam Shrimp, 76 FR at 56160.

Final Results of the Review

For the companies subject to this review, which established their eligibility for a separate rate, Commerce determines that the following weighted-average dumping margins exist for the POR from April 1, 2018, through March 31, 2019:

Producers/exporters | Weighted- average dumping margin (USD/kg) ¹⁸
Carbon Activated Tianjin Co., Ltd | 1.83
Datong Juqiang Activated Carbon Co., Ltd | 0.38
Review-Specific Average Rate Applicable to the Following Companies ¹⁹
Beijing Pacific Activated Carbon Products Co., Ltd | 0.65
Jacobi Carbons AB ²⁰ | 0.65
Ningxia Huahui Activated Carbon Co., Ltd | 0.65
Ningxia Mineral & Chemical Limited | 0.65
Shanxi Sincere Industrial Co., Ltd | 0.65
Shanxi Tianxi Purification Filter Co., Ltd | 0.65
Datong Municipal Yunguang Activated Carbon Co., Ltd | 0.65
Shanxi Industry Technology Trading Co., Ltd | 0.65
Tancarb Activated Carbon Co., Ltd | 0.65

In the Preliminary Results, Commerce found that 63 companies for which a review was requested ²¹ did not establish eligibility for a separate rate because they did not file a separate rate application or a separate rate certification, as appropriate.²² No interested party commented on Commerce's preliminary determination with respect to these 63 companies, identified at Appendix II to this notice. Therefore, for these final results we determine these companies to be part of the China-wide entity. Because no party requested a review of the China-wide entity, and Commerce no longer considers the China-wide entity as an exporter conditionally subject to administrative reviews,²³ we did not conduct a review of the China-wide entity. Thus, the weighted-average dumping margin for the China-wide entity (i.e., 2.42 USD/kg) ²⁴ is not subject to change as a result of this review.

¹⁸ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010) (AR2 Carbon), and accompanying Issues and Decision Memorandum (IDM) at Comment 3.

¹⁹ This is the rate applicable to the non-examined separate rate respondents, as discussed above.

²⁰ In the third administrative review of the Order, Commerce found that Jacobi Carbons AB, Tianjin Jacobi International Trading Co. Ltd., and Jacobi Carbons Industry (Tianjin) should be treated as a single entity, and because there were no facts presented on the record of this review which would call into question our prior finding, we continue to treat these companies as part of a single entity for this administrative review, pursuant to sections 771(33)(E), (F), and (G) of the Act, and 19 CFR 351.401(f). See Certain Activated Carbon from the People's Republic of China: Final Results and Partial Rescission of Third Antidumping Duty Administrative Review, 76 FR 67142, 67145, n.25 (October 31, 2011); see also Preliminary Results PDM.

²¹ See Appendix II of this notice for a full list of the 63 companies.

²² See Preliminary Results PDM at 8.

²³ See Antidumping Proceedings: Announcement of Change in Department Practice for Respondent Selection in Antidumping Duty Proceedings and Conditional Review of the Nonmarket Economy Entity in NME Antidumping Duty Proceedings, 78 FR 65963, 65969-70 (November 4, 2013).

²⁴ See, e.g., Certain Activated Carbon from the People's Republic of China: Final Results of Antidumping Duty Administrative Review; 2012-2013, 79 FR 70163, 70165 (November 25, 2014).

Assessment Rates

Pursuant to section 751(a)(2)(C) of the Act and 19 CFR 351.212(b), Commerce has determined, and U.S Customs and Border Protection (CBP) shall assess, antidumping duties on all appropriate entries covered by this review. Consistent with its recent notice,²⁵ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁵ See Notice of Discontinuation of Policy to Issue Liquidation Instructions After 15 Days in Applicable Antidumping and Countervailing Duty Administrative Proceedings, 86 FR 3995 (January 15, 2021).

For each individually-examined respondent in this review which has a final weighted-average dumping margin that is not zero or de minimis (i.e., less than 0.5 percent), we will calculate importer- (or customer-) specific per-unit duty assessment rates based on the ratio of the total amount of dumping calculated for the examined sales to that importer (or customer) to the total quantity associated with those sales, in accordance with 19 CFR 351.212(b)(1).²⁶ We will also calculate (estimated) ad valorem importer-specific assessment rates with which to determine whether the per-unit assessment rates are de minimis.²⁷ Where either the respondent's weighted-average dumping margin is zero or de minimis, or an importer- (or customer-) specific assessment rate is zero or de minimis, we will instruct CBP to liquidate the appropriate entries without regard to antidumping duties.²⁸

²⁶ See AR2 Carbon IDM at Comment 3.

²⁷ For calculated (estimated) ad valorem importer-specific assessment rates used in determining whether the per-unit assessment rate is de minimis, see Carbon Activated's Final Calculation Memorandum and Datong Juqiang's Final Calculation Memorandum and attached Margin Calculation Program Logs and Outputs.

²⁸ See 19 CFR 351.106(c)(2).

For the respondents which were not selected for individual examination in this administrative review and which qualified for a separate rate, the assessment rate will be equal to the rate assigned to them for the final results (i.e., 0.65 USD/kg). For the companies identified as part of the China-wide entity, we will instruct CBP to apply a per-unit assessment rate of 2.42 USD/kg to all entries of subject merchandise during the POR which were produced or exported by those companies. Pursuant to a refinement in our non-market economy practice, for sales that were not reported in the U.S. sales data submitted by companies individually examined during this review, we will instruct CBP to liquidate entries associated with those sales at the rate for the China-wide entity. Furthermore, where we found that an exporter under review had no shipments of the subject merchandise, any suspended entries that entered under that exporter's case number (i.e., at that exporter's cash deposit rate) will be liquidated at the rate for the China-wide entity.²⁹

²⁹ For a full discussion of this practice, see Assessment Practice Refinement, 76 FR at 65694.

Cash Deposit Requirements

The following per-unit cash deposit requirements will be effective upon publication of the final results of this administrative review for all shipments of the subject merchandise from China entered, or withdrawn from warehouse, for consumption on or after the publication date, as provided by section 751(a)(2)(C) of the Act: (1) For Carbon Activated, Datong Juqiang, and the non-examined separate rate respondents, the cash deposit rate will be equal to their weighted-average dumping margins established in the final results of this review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 2.42 USD/kg); and (4) for all non-Chinese exporters of subject merchandise which have not received their own separate rate, the cash deposit rate will be the rate applicable to the Chinese exporters that supplied those non-Chinese exporters. These per-unit cash deposit requirements, when imposed, shall remain in effect until further notice.

Disclosure

We intend to disclose the calculations performed to parties in this proceeding within five days of the date of publication of this notice in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review and notice in accordance with sections 751(a)(1) and 777(i) of the Act.

Dated: February 12, 2021.
Christian Marsh,
Acting Assistant Secretary for Enforcement and Compliance.

Appendix I

Issues and Decision Memorandum

I. Summary

II. Background

III. Scope of the Order

IV. Changes Since the Preliminary Results

V. Discussion of the Issues

Comment 1: Adjustment of Datong Juqiang's Reported Per-Unit Factor Consumption of Bituminous Coal and Carbonized Material

Comment 2: Bituminous Coal Surrogate Value

Comment 3: Coal Tar Surrogate Value

Comment 4: Anthracite Coal Surrogate Value

Comment 5: Selection of Surrogate Financial Statements

Comment 6: Ocean Freight Surrogate Value

Comment 7: Hydrochloric Acid Surrogate Value

Comment 8: Carbonized Material Surrogate Value

Comment 9: Liquid Caustic Soda Surrogate Value

Comment 10: Steam Surrogate Value

Comment 11: Whether to Use the Most Comparable CONNUM When Calculating the Factors of Production for Carbon Activated's Uncooperative and Excluded Suppliers

VI. Recommendation

Appendix II

Companies Not Eligible for a Separate Rate and Treated as Part of the China-Wide Entity

1. AM Global Shipping Lines Co., Ltd.

2. Apex Maritime (Tianjin) Co., Ltd.

3. Beijing Kang Jie Kong International Cargo Agent Co Ltd.

4. Bengbu Modern Environmental Co., Ltd.

5. Brilliant Logistics Group Inc.

6. China Combi Works Oy Ltd

7. China International Freight Co., Ltd.

8. Cohesion Freight (HK) Ltd.

9. Datong Municipal Yunguang

10. De Well Container Shipping Corp.

11. Derun Charcoal Carbon Co., Ltd.

12. Endurance Cargo Management Co., Ltd.

13. Envitek (China) Ltd.

14. Excel Shipping Co., Ltd.

15. Fujian Xinsen Carbon Co., Ltd.

16. Fuzhou Yihuan Carbon Co., Ltd.

17. Fuzhou Yuemengfeng Trade Co., Ltd.

18. Gongyi City Bei Shan Kou Water Purification Materials Factory

19. Guangdong Hanyan Activated Carbon Manufacturing Co., Ltd.

20. Guangzhou Four E'S Scientific Co., Ltd.

21. Hangzhou Hengxing Activated Carbon

22. Henan Dailygreen Trading Co., Ltd.

23. Honour Lane Shipping Ltd.

24. Ingevity Corp.

25. Ingevity Performance Materials

26. Jiangsu Kejing Carbon Fiber Co., Ltd.

27. Jiangxi Yuanli Huaiyushan Active Carbon

28. Jilin Bright Future Chemicals Co.

29. King Freight International Corp.

30. M Chemical Company, Inc.

31. Meadwestvaco Trading (Shanghai)

32. Muk Chi Trade Co., Ltd.

33. Nanping Yuanli Active Carbon Co.

34. Pacific Star Express (China) Company Ltd.

35. Panalpina World Transport (Prc) Ltd.

36. Pingdingshan Green Forest Activated Carbon Factory

37. Pingdingshan Lvlin Activated Carbon Co., Ltd.

38. Pudong Prime International Logistics

39. Safround Logistics Co.

40. Seatrade International Transportation

41. Shanghai Caleb Industrial Co. Ltd.

42. Shanghai Express Global International

43. Shanghai Line Feng Int'l Transportation

44. Shanghai Pudong International Transportation

45. Shanghai Sunson Activated Carbon

46. Shanghai Xinjinhu Activated Carbon

47. Shanxi DMD Corp.

48. Shanxi Industry Technology Trading (ITT)

49. Shanxi Tianxi Purification Filter

50. Shenzhen Calux Purification

51. Shijiazhuang Tangju Trading Co.

52. Sinoacarbon International Trading Co., Ltd.

53. T.H.I. Group (Shanghai) Ltd.

54. Tancarb Activated Carbon Co.

55. The Ultimate Solid Logistics Ltd

56. Tianjin Maijin Industries Co., Ltd

57. Translink Shipping Inc.

58. Trans-Power International Logistics Co., Ltd.

59. Triple Eagle Container Line

60. U.S. United Logistics (Ningbo) Inc.

61. Yusen Logistics Co., Ltd.

62. Zhejiang Topc Chemical Industry

63. Zhengzhou Zhulin Activated Carbon

[FR Doc. 2021-03512 Filed 2-19-21; 8:45 am]

BILLING CODE 3510-DS-P